DEPARTMENT OF THE INTERIOR

National Park Service

[NPS-WASO-NAGPRA-NPS0037081; PPWOCRADN0-PCU00RP14.R50000]

Notice of Inventory Completion: Office of the State Archaeologist Bioarchaeology Program, University of Iowa, Iowa City, IA

AGENCY: National Park Service, Interior.

ACTION: Notice.

SUMMARY: In accordance with the Native American Graves Protection and Repatriation Act (NAGPRA), the Office of the State Archaeologist Bioarchaeology Program (OSA-BP) has completed an inventory of human remains and associated funerary objects and has determined that there is no cultural affiliation between the human remains and associated funerary objects and any Indian Tribe. The human remains and associated funerary objects were removed from Boone, Cass, Cherokee, Clayton, Clinton, Dickinson, Dubuque, Marshall, Monona, Muscatine, Page, Plymouth, Pottawattamie, Story, and Woodbury Counties, IA.

DATES: Disposition of the human remains and associated funerary objects in this notice may occur on or after January 18, 2024.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: This notice is published as part of the National Park Service's administrative responsibilities under NAGPRA. The determinations in this notice are the sole responsibility of the OSA-BP. The National Park Service is not responsible for the determinations in this notice. Additional information on the determinations in this notice, including the results of consultation, can be found in the inventory or related records held by the OSA-BP.

Description

In June 2009, human remains representing, at minimum, one individual were removed from 13PM247 in Plymouth County, IA. Very small cranial fragments were found on the surface of the known Archaic Period site by a local collector and were transferred to the OSA-BP. An individual of unknown age and sex is represented by the human remains (Burial Project 3084). No associated funerary objects are present.

At an unknown date, human remains representing, at minimum, two individuals were removed from an unknown location, presumed to be in Iowa. In 2016, a private citizen transferred to the OSA-BP human remains which he had inherited from a deceased relative with no provenience information. A middle adult male and a young adult of indeterminate sex are represented by the cranial remains (Burial Project 3184). No associated funerary objects are present.

In the 1950s and 1960s, human remains representing, at minimum, 16 individuals were removed from mound sites 13DB40 and 13DB1140 in Dubuque County, IA, as well as from a mound site of unknown location (reported as Richards Mound group) likely in Grant County, WI. The human remains were excavated by amateurs and curated in private homes until one of the excavators passed away. A descendant of the excavator transferred commingled human remains from all three sites to the OSA-BP in May 2016. Seven adults, including at least one female and three males, are represented, as well as eight juveniles of the following ages: 1.5-2.5 years, 2.5-4.5 years, 4.5-6.5 years, around 5.5 years, 7.5-9.5 years, 10.5-11.5 years, 11.5-13.5 years, and >14.5-15.5. The sixteenth individual is a likely juvenile, but age could not be estimated (Burial Project 3189). The 14 associated funerary objects are seven freshwater shell fragments, four small faunal bones, two pieces of baked clay, and one small piece of limestone.

In 2015 and 2016, human remains representing, at minimum, one individual were removed from 13DK96, likely a winter campsite, in Dickinson County, IA. During field school excavations conducted in 2015 and 2016 by the University of Iowa Department of Anthropology, three isolated human bone fragments originally thought to be faunal were recovered. Once identified as human, these remains were transferred to the OSA-BP. A child approximately 10-to-12 years old is represented by the human remains (Burial Project 3205). No associated funerary objects are present.

In 1939, human remains representing, at minimum, two individuals were removed from 13CK98, a precontact cemetery, in Cherokee County, IA. The human remains were discovered by a Civilian Conservation Corps crew digging a gravel pit on the property of a local farmer. The farmer kept the cranial remains in a house that was passed down to his descendants. Grandchildren of the farmer transferred the human remains to the OSA-BP in 2017. An old adult male and a young-to-middle adult female are represented by the human remains (Burial Project 3214). The one associated funerary object is a flat copper object, which appears to be a pendant.

At an unknown date, human remains representing, at minimum, one individual were removed from an unknown location, possibly in northwestern Iowa. The unprovenienced remains, a single human tooth, were discovered in a desk drawer at the Sanford Museum in Cherokee, Cherokee County, IA. The discovery of the tooth with papers belonging to an archeological society suggests an archeological origin for the human remains, potentially a Native American site. No additional information is available. The human remains were transferred to the OSA-BP in 2017. An adult of unknown age and sex is represented by the tooth (Burial Project 3246). No associated funerary objects are present.

In September 2017, human remains representing, at minimum, one individual were removed from Muscatine County, IA. A private citizen discovered a partial cranium in the Cedar River (find spot 13MC350). The original location of the cranium is unknown. The find was reported to the Muscatine County Sheriff's Office, which collected the human remains and transferred them to the OSA-BP. An adult of unknown sex is represented by the human remains (Burial Project 3287). No associated funerary objects are present.

In August 2018, human remains representing, at minimum, one individual were removed from Cass County, IA. The human remains were discovered on a sandbar in the East Nishnabotna River (find spot 13CA79) by a private citizen who then transferred the human remains to the OSA-BP. An adult of unknown age, possibly female, is represented by the partial mandible (Burial Project 3375). No associated funerary objects are present.

At an unknown date, human remains representing, at minimum, eight individuals were removed from an unknown location or locations in Iowa. Sometime in the 1970s, these human remains were transferred by Iowa archeologists to a forensic anthropologist at Kansas State University. In 2018, an anthropology professor at Kansas State identified the skeletal remains as originating from Iowa and transferred them to the OSA-BP in 2019. Three older adults, two adolescents or young adults, two young children (1.0-4.0 years), and one fetal to newborn individual are represented by the incomplete and fragmented remains (Burial Project 3402). No associated funerary objects are present.

In July 2019, human remains representing, at minimum, one individual were removed from Page County, IA. A partial human cranium was discovered by private citizens on a sandbar (find spot 13PA124) in the East Nishnabotna River. Page County Sheriff's deputies recovered the human remains and sent them to the Iowa Office of the State Medical Examiner (SME case #19-03834). A forensic anthropologist with Des Moines University determined that the human remains were too old to be of forensic significance and were likely Native American. The State Medical Examiner transferred the human remains to the OSA-BP in August 2019. A middle adult female is represented by the human remains (Burial Project 3456). No associated funerary objects are present.

At an unknown date, human remains representing, at minimum, four individuals were removed from an unknown location or locations in Iowa. Human remains were discovered on display at Jim's History Barn in Peterson, IA, by a Sanford Museum archeologist and reported to the OSA. Many bones that the elements were displayed with had site numbers written on them but these were without labels; given their similar coloration to labeled elements they are likely from sites in northwest Iowa as well. The human remains were confiscated by the OSA-BP in 2019. Four adults, one of unknown age beyond the category of adult, two middle-aged adults and one younger to middle-aged adult are represented by the incomplete and fragmented remains (BP3474). No associated funerary objects are present.

Between 2000 and 2009, human remains representing, at minimum, three individuals were removed from various locations in Iowa, potentially from Clinton in Clinton County. The human remains were initially collected and stored by Jim Pilgrim; they were transferred to the OSA-BP in December of 2019. The cranial and postcranial fragments represent three individuals: one adult of indeterminate sex, one adult male and one possible juvenile (BP3477). The 22 associated funerary objects are 10 faunal bones,11 pieces of stone, and one piece of black flint that has been flaked.

In 2019, human remains representing, at minimum, one individual were removed from Pottawattamie County, IA. A private citizen contacted the OSA for identification of an isolated bone fragment he had found while metal detecting. It was confirmed to be human, and it was transferred to the OSA-BP in December 2019, as other sites in the vicinity are known to include ancient burials. The find spot was designated 13PW391. An adult of unknown age and sex is represented by a tibial fragment (Burial Project 3483). No associated funerary objected are present.

In 2021, human remains representing, at minimum, one individual was removed from 13MN87 in Monona County, IA. On March 30, 2020, the Iowa Department of Natural Resources contacted the OSA to report a skull eroding along a road cut bank in the Loess Hills. The human remains were left in place and covered with clean fill. A year later the human remains were re-exposed, so were collected by the OSA-BP in 2021. A juvenile of unknown age is represented by a partial fragmented cranium (Burial Project 3498). No associated funerary objects are present.

In August 2020, human remains representing, at minimum, one individual were removed from Clayton County, IA. Kayakers found a partial maxilla and zygomatic on the bank of the Turkey River in Elkader, IA (find spot 13CT477), and turned it over to the Clayton County Sheriff's Office. The Clayton County Sheriff's Office contacted the OSA and in August 2020, the human remains were transferred to the OSA-BP. An adult of indeterminate sex around the age of 20-35 years old is represented by the human remains (Burial Project 3530). No associated funerary objects are present.

In October 2020, human remains representing, at minimum, one individual were removed from Woodbury County, IA. A private citizen informed the Woodbury County Sheriff's Office that he had discovered part of a human cranium in the Little Sioux River (find spot 13WD232). The original burial location of the cranium is unknown. The sheriff's office transferred the cranial fragment to the Iowa Office of the State Medical Examiner, where the human remains were determined not to be of forensic significance (SME Case#: 20-03037). The cranial remains were transferred to the OSA-BP in November 2020. An adult of unknown age and sex is represented by the left parietal (Burial Project 3544). No associated funerary objects are present.

On July 3, 2021, human remains representing, at minimum, one individual were removed from Cherokee County, IA. A human mandible was found by kayakers on a sandbar in the Little Sioux River (find spot 13CK175). The mandible was brought to the Cherokee County Sheriff's Office on July 10, 2021 and transferred to the OSA-BP on July 30, 2021. One middle-aged male (35-50 years) is represented by an almost complete mandible (BP3617). No associated funerary objects are present.

At an unknown time, human remains representing, at minimum, one individual were removed from 13BN323, a village site with associated mounds, in Boone County, IA. The human remains were identified among faunal remains in the 2022 Jimmie Thompson Donation to the OSA. The human remains consist of a single mandibular right first molar. Dental wear indicates a middle-aged adult individual of Native American ancestry is represented; sex is indeterminate (BP3686). No associated funerary objects are present.

At an unknown time, human remains representing, at minimum, one individual were removed from 13SR5 in Story County, IA. The human remains came to the OSA through the 2022 Jimmie Thompson Donation with other artifacts from the site. The human remains include three rib fragments and one manubrium fragment and represent an adult individual of indeterminate age and sex (BP3693). No associated funerary objects are present.

At an unknown time, human remains representing, at minimum, one individual were removed from the Ioway Creek in Boone County north of Ames, IA (find spot 13BN491), by collector Jimmie Thompson. Mr. Thompson's collection was donated to the OSA in May 2022. In August 2022, a human mandible fragment was identified by OSA lab staff during the processing of the collection and was transferred to the OSA-BP. One adult probable male is represented by the mandible fragment (BP3706). No associated funerary objects are present.

On August 10, 2022, human remains representing, at minimum, one individual were removed from Marshall County, IA. A human mandible was found on a sandbar in the Iowa River (find spot 13MR501) by Marshall County Conservation volunteers surveying the river near Timmons Grove County Park. The volunteers contacted the Marshall County Sheriff's Office who contacted the Iowa State Medical Examiner. The mandible was transferred to the OSA-BP after the Medical Examiner's determination on August 11, 2022, that the human remains were not of forensic significance (SME Case#: 22-27091). One middle aged male (30-50) is represented by an almost complete mandible (BP3708). No associated funerary objects are present.

At an unknown date human remains representing, at minimum, one individual were removed from Monona County, IA. A mostly complete right parietal, articulating left parietal fragment, and partial mandible with five associated teeth were collected from a farm field near Castana, IA, by a farmer and given to private citizen of Mapleton, IA. The citizen's wife transferred the human remains to the Mapleton Museum in the late 1990s. The museum curator transferred the human remains to the Monona County Sheriff's Office in 2021 and the Sheriff transferred the human remains to the OSA in February of 2023. On older adult male (50+ years old) is represented by the cranial elements and mandible (BP3757). No associated funerary objects are present.

At an unknown date, possibly between the 1960s and 2009, human remains representing, at minimum, three individuals were removed from an unknown location, likely within the vicinity of Clinton, IA, by a private collector. Upon the private collectors passing his family transferred the human remains to the OSA in March of 2023. One juvenile individual aged birth to two years and two adult males are represented (BP3770). The 16 associated funerary objects include one black chert early-stage biface, one white chert point base, and 14 shell fragments.

At an unknown date human remains representing, at minimum, one individual were removed from an unknown location, likely in the vicinity of Clinton, IA, by a private collector. Upon his passing his family transferred the human remains to the OSA in March of 2023. The human remains include on left tibia midsection from an adult individual (BP3772). The human remains represent one adult individual. No associated funerary objects are present.

Aboriginal Land

The human remains and associated funerary objects in this notice were removed from known geographic locations. These locations are the aboriginal lands of one or more Indian Tribes. The following information was used to identify the aboriginal land: a final judgment of the Indian Claims Commission or the United States Court of Claims, treaties, oral history, and consultation with 26 signatory Tribes to the Process for Reburial of Culturally Unidentifiable Native American Human Remains and Associated Funerary Objects originating from Iowa.

Determinations

Pursuant to NAGPRA and its implementing regulations, and after consultation with the appropriate Indian Tribes, the OSA-BP has determined that:

• The human remains described in this notice represent the physical remains of 55 individuals of Native American ancestry.

• The 53 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Cheyenne River Sioux Tribe of the Cheyenne River Reservation, South Dakota; Citizen Potawatomi Nation, Oklahoma; Flandreau Santee Sioux Tribe of South Dakota; Ho-Chunk Nation of Wisconsin; Iowa Tribe of Kansas and Nebraska; Iowa Tribe of Oklahoma; Lower Sioux Indian Community in the State of Minnesota; Miami Tribe of Oklahoma; Omaha Tribe of Nebraska; Otoe-Missouria Tribe of Indians, Oklahoma; Pawnee Nation of Oklahoma; Peoria Tribe of Indians of Oklahoma; Ponca Tribe of Indians of Oklahoma; Ponca Tribe of Nebraska; Prairie Band Potawatomi Nation; Sac & Fox Nation of Missouri in Kansas and Nebraska; Sac & Fox Nation, Oklahoma; Sac & Fox Tribe of the Mississippi in Iowa; Santee Sioux Nation, Nebraska; Sisseton-Wahpeton Oyate of the Lake Traverse Reservation, South Dakota; Spirit Lake Tribe, North Dakota;, The Osage Nation; Three Affiliated Tribes of the Fort Berthold Reservation, North Dakota; Upper Sioux Community, Minnesota; Winnebago Tribe of Nebraska; and the Yankton Sioux Tribe of South Dakota.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after January 18, 2024. If competing requests for disposition are received, the OSA-BP must determine the most appropriate requestor prior to disposition. Requests for joint disposition of the human remains and associated funerary objects are considered a single request and not competing requests. The OSA-BP is responsible for sending a copy of this notice to the Indian Tribes identified in this notice.

Authority: Native American Graves Protection and Repatriation Act, 25 U.S.C. 3003, and the implementing regulations, 43 CFR 10.9 and 10.11.

Dated: December 8, 2023.
Melanie O'Brien,
Manager, National NAGPRA Program.

[FR Doc. 2023-27791 Filed 12-18-23; 8:45 am]

BILLING CODE 4312-52-P